DEPARTMENT OF ENERGY

Federal Energy Regulatory Commission

[Project No. 382-026, Project No. 178-017]

Southern California Edison Company, Pacific Gas & Electric Company; Notice Extending Comment Period for Draft Environmental Assessment

May 3, 2005.

On March 22, 2005, the Commission issued a notice of availability of the draft environmental assessment (DEA) evaluating the relicensing applications for the Borel Hydroelectric Project (P-382-026), located on the Kern River near the town of Bodfish in Kern County, California, and the Kern Canyon Hydroelectric Project (P-178-017), located on the Kern River, near the town of Bakersfield in Kern County, California. Comments were due within 45 days of the issuance date of the notice. Because some participants were not notified of the availability of the DEA, we are extending the comment date 15 days until May 20, 2005.

A copy of the DEA is on file with the Commission and is available for public inspection. The DEA is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

Any comments should be filed no later than May 20, 2005, and should be addressed to the Secretary, Federal Energy Regulatory Commission, 888 First Street, NE., Room 1-A, Washington, DC 20426. Please affix “Borel Hydroelectric Project No. 382-026” and/or “Kern Canyon Hydroelectric Project No. 178-017” to all comments. Comments may be filed electronically via the Internet in lieu of paper. The Commission strongly encourages electronic filings. See 18 CFR 385.2001(a)(1)(iii) and the instructions on the Commission's Web site under the “e-filing” link. For further information, contact Emily Carter at (202) 502-6512 or emily.carter@ferc.gov.

Magalie R. Salas,
Secretary.

[FR Doc. E5-2253 Filed 5-9-05; 8:45 am]

BILLING CODE 6717-01-P